FEDERAL TRADE COMMISSION

Granting of Request for Early Termination of The Waiting Period Under the Premerger Notification Rules

Section 7A of the Clayton Act, 15 U.S.C. 18a, as added by Title II of the Hart-Scott-Rodino Antitrust Improvement Act of 1976, requires persons contemplating certain mergers or acquisitions to give the Federal Trade Commission and the Assistant Attorney General advance notice and to wait designated periods before consummation of such plans. Section 7A(b)(2) of the Act permits the agencies, in individual cases, to terminate this waiting period perior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—05/23/2000
20003000 | Sulzer AG | A. Ahlstrom Corporation | Ahlstorm Pumps Corporation
20003015 | Vitesee Semiconductor Corporation | SiTera Incorporated | SiTera Incorporated
20003031 | Leap Wireless International, Inc | J. Donald G. Garvey | Radiofone PCS, L.L.C.
20003032 | Leap Wireless International, Inc | Lawrence D. Garvey | Radiofone PCS, L.L.C.
20003037 | Alcatel | Sonoma System, Inc | Sonoma System, Inc.
20003042 | AT&T Corp | Holding Company | Holding Company
20003043 | Holding Company | AT&T Corp | AT&T Wireless PCS Inc.
20003044 | Tritel, Inc | TeleCorp PCS, Inc | TeleCorp PCS, Inc.
20003045 | TeleCorp PCS, Inc | Tritel, Inc | Tritel, Inc.
20003074 | Tribune Company | Classified Ventures, Inc | Classified Ventures, Inc.
20003076 | Tribune Company | CareerPath.com, Inc | CareerPath.com, Inc.
20003079 | Wesley Guylay Capital Management, L.P | Monaco Coach Corporation | Monaco Coach Corporation
20003085 | TCV IV, L.P | eLoyalty Corporation | eLoyalty Corporation
20003088 | Tritel, Inc | Digital pcs, LLC | Digital pcs, LLC
20003096 | Morrison Knudsen Corporation | Raytheon Company | Raytheon Engineers & Constructors
20003103 | FairPoint Communications, Inc | Fremont Telecom Co | Fremont Telecom Co.
20003111 | Longwood Industries, Inc | Joel P. Wyler | Eagle-Picher Industries, Inc.
20003112 | Marital Trust #2 | Automotive Systems International, Inc | Automotive Systems International, Inc.
20003115 | InSight Health Services Corp | US Diagnostic Inc | Wilkes-Barre Imaging
20003136 | Alcatel | Ironbridge Networks Incoporated | Ironbridge Networks Incoporated
20003146 | Time Warner, Inc | Electronic Newstand, Inc | Electronic Newstand, Inc.
20003147 | BICC USA, Inc | Stout Group Limited | Stout Group Limited
20003150 | Chase Manhattan Corporation (The) | Formus Communications, Inc | Formus Communications, Inc.
20003198 | Cecilia Ronchetti | Uponor Oyj | Asko Cylinda AB
TRANSACTIONS GRANTED EARLY TERMINATION—05/24/2000
20003149 | Caisse de Depot et placement du Quebec | Formus Communications, Inc | Formus Communications, Inc.
20003153 | Ixchange Technology Holdings | Masterpack International Holdings, Inc | Masterpack International Holdings, Inc.
20003163 | Reuters Group PLC | Primark Corporation | Yankee Group Research, Inc.
20003189 | Stephen A. Wynn | Starwood Hotels & Resorts Worldwide, Inc | Starwood Hotels & Resorts Worldwide, Inc.
TRANSACTIONS GRANTED EARLY TERMINATION—05/25/2000
20003007 | Bruckman, Rosser, Sherill & Co., L.P. | M. Francois Pinault | El Torito Franchising Company, El Torito Restaurants, Inc.
20003033 | GN Great Nordic AS | Beltone Electronics, Inc. | Beltone Electronics, Inc.
20003071 | University Hospitals Health System, Inc. | Primary Health Systems, Inc., Debtor in Possession | PHS Cleveland, Inc. Primary Health Systems of Ohio, L.P., PHS Mt. Sinai, Inc.,
20003122 | Greylock Equity Limited Partnership | Acta Technology, Inc. | Acta Technology, Inc.
20003124 | Paine Webber Group, Inc. | J.C. Bradford & Co., LLC | J.C. Bradford & Co., LLC
20003131 | Texaco Inc. | Energy Conversion Devices, Inc. | Energy Conversion Devices, Inc.
20003132 | Tyco International Ltd. | Lloyd M. Gordon and Diane R. Gordon | Amcel Corp.
20003134 | Aktiebolaget Electrolux | E-LUX Holdings, L.L.C. | Electrolux, LLC
20003137 | Florida Rock Industries, Inc. | Southern Concrete Construction Co., Inc. | Southern Concrete Construction Co., Inc.
20003139 | Louisiana Pacific Corporation | David V. Holli | Sawyer Lumber Company, LLC
20003144 | MacDermid, Incorporated | VirtualFund.com, Inc. | VirtualFund.com, Inc.
20003165 | Health Management Associated, Inc. | Catholic Health Initiatives | BR Investments, Inc. Neumann Services, Inc. St. Joseph Regional Health Network
20003188 | AT&T Corp. | Priceline WebHouse Club, Inc. | Priceline WebHouse Club, Inc.
20003192 | Peregrine Systems, Inc. | Harbinger Corporation | Harbinger Corporation
20003195 | Brambles Industries Limited | National Recovery Systems, Inc | National Recovery Systems, Inc.
20003207 | SDL, Inc. | Photonic Integration Research, Inc. | Photonic Integration Research, Inc.
TRANSACTIONS GRANTED EARLY TERMINATION—05/26/2000
20003034 | ATX Telecommunications Services, Inc. | Voyager.net, Inc. | Voyager.net,Inc.
20003036 | RCBA Strategic Partners, L.P. | CB Richard Ellis Services, Inc. | CB Richard Ellis Services, Inc.
20003068 | Marsh & McIennan Companies, Inc. | David A. Nadler | Delta Consulting Group, Inc.
20003078 | Swiss Reinsurance Company | Industrial Life Insurance Company | North West Life Assurance Company of America
20003099 | GTCR Fund VI, L.P. | Genesis Eldercare Corporation | Genesis Eldercare Corporation
20003108 | Isle of Capri Casinos, Inc. | Hilton Hotels Corporation | Flamingo Hilton Riverboat Casino, L.P.
20003130 | Michael A. Karp | CoreComm Limited | CoreComm Limited
20003148 | Alberta Energy Company Ltd. | McMurry Energy Company | McMurry Oil Company
20003162 | Rosemore, Inc. | Crown Central Petroleum Corporation | Crown Central Petroleum Corporation
20003164 | Charles B. Wang | Howard P. Milstein | New York Islanders Hockey Club, L.P.
20003166 | CRH plc | Hanson plc | Acme Materials and Construction Company
20003171 | David H. Murdock | Dole Food Company, Inc. | Dole Food Company, Inc.
20003173 | Sunglass Hut International, Inc. | Watch World Licensing Corp. | Watch World Licensing Corp.
20003177 | Yaskawa Electric Corporation | David Benson | Huntair Inc.
20003178 | M-L Holdings, Inc. | Wayne C. Oldenburg | Contractors Machinery Company, Inc.
20003187 | Spartan Stores, Inc. | Seaway Food Town, Inc. | Seaway Food Town, Inc.
20003191 | Adventist Health System Sunbelt Healthcare Corporation | Puerto Rican Union Conference | Bella Vista Yauco, Inc.
20003196 | Coloniale S.r.1. | Delicious Brands, Inc. | Delicious Brands, Inc.
20003197 | Hewlett-Packard Company | Saliente 3 Communications, Inc. | Saliente 3 Communications, Inc.
20003201 | HeadHunter.NET | Omnicom Group, Inc. | Career Mosaic, Inc.
20003202 | Omnicom Group, Inc. | HeadHunter.NET | HeadHunter.NET
20003206 | MDU Resources Group, Inc. | Kinder Morgan, Inc. | K N Gas Gathering, Inc.
20003208 | TeleCorp PCS, Inc. | Kailas J. Rao | Indus, Inc.
20003209 | ChipPAC, Inc. | Intersil Holding Corporation | Intersil Technology Sdn. Bhd.
20003212 | Leeds Equity Partners III, L.P. | James R. Leininger, M.D. | FOCUS Direct, Inc.
20003219 | SuperGen, Inc. | AVI BioPharma, Inc. | AVI BioPharma, Inc.
20003220 | Tyco International, Ltd. | Hub Fabricating Company | Hub Fabricating Company
20003221 | E.I. du Pont de Nemours & Company | Michael Jaharis | Kos Pharmaceuticals, Inc.
20003246 | First Union Corporation | Founders Financial Group, L.P. | Forum Capital Markets, L.L.C.
TRANSACTIONS GRANTED EARLY TERMINATION—05/30/2000
20003030 | Internet Capital Group, Inc. | Purchasing Systems, Inc. | Purchasing Systems, Inc.
20003223 | Dynegy Inc. | Canton Fitzgerald, L.P. | eSpeed, Inc.
20003228 | Zany Brainy, Inc. | Noodle Kidoodle, Inc. | Noodle Kidoodle, Inc.
20003230 | Summit Capital II, L.P. | Rentokil Initial plc | BET Personnel Services, Inc.
20003231 | UBS Capital Americas II, LLC | Netrail, Inc. | Netrail, Inc.
20003235 | Cletes O. Beshears | Allen A. Meyer | Milk Products Delaware LLC, Milk Products Operating Co., LLC
20003242 | Entrust Technologies Inc. | EnCommerce, Inc. | EnCommerce, Inc.
20003244 | Macroni plc | Thrucomm, Inc. | Thrucomm, Inc.
20003245 | Jaco Electronics, Inc. | Brendon J. Perry | Interface Electronics Corporation
20003253 | General Electric Company | Newco | Newco
20003256 | The Allstate Corporation | Victor Automotive Products, Inc. | Victor Automotive Products, Inc.
20003263 | CRH plc | Dolomite Products Company, Inc. | Dolomite Products Company, Inc.
20003264 | MDU Resources Group, Inc. | Meredith Reiter | Empire Sandi & Gravel Co., Inc.
20003265 | Svenska Cellulosa Aktiebolaget SCA (publ) | Johnson & Johnson | McNeil-PPC, Inc.
20003289 | Deutsche Bank AG | National Discount Brokers Group, Inc. | National Discount Brokers Group, Inc.
20003301 | Capital Z Financial Services Fund II, L.P | News Alert Investors LLC | NewsAlert, Inc.
20003306 | The Prudential Insurance Company of America | The WMF Group, Ltd. | The WMF Group, Ltd.
TRANSACTIONS GRANTED EARLY TERMINATION—05/31/2000
20003117 | Axcan Pharma, Inc. | QLT Photo Therapeutics Inc. | QLT Photo Therapeutics Inc.
20003129 | Warburg, Pincus Equity Partners, L.P. | QuadraMed Corporation | ChartOne, Inc.
20003151 | Diehl Stiflung & Co. | Miller Company (The) | Miller Company (The)
20003152 | CMGI Corporation | Alibris | Alibris
20003179 | The Williams Companies, Inc. | Cantor Fitzgerald, L.P. | eSpeed, Inc.
20003180 | AT&T Corp. | Telephone and Data Systems, Inc. Voting | USCOC of Hawaii 3, Inc.
20003226 | Landmark Communications, Inc. | United News & Media plc | National Titles, Inc. UAP Delaware, Inc. UAPnet United Parenting Publications, Inc.
20003229 | American Tower Corporation | General Telecom, Inc. | General Telecom, Inc.
20003236 | Dean Food Company | Pro-Fac Cooperative, Inc. | Agrilink Foods Inc.
20003252 | Patterson Energy, Inc. | Roy T. Oliver, Jr. | High Valley Drilling, Inc.
20003257 | General Motors Corporation | Universal Assurors, Inc. | Universal Warranty Corporation
20003262 | Affiliated Computer Services, Inc. | The Intellisource Group, Inc. | The Intellisource Group, Inc.
20003267 | Barnes & Noble, Inc. | Funco, Inc. | Funco, Inc.
20003270 | Forstmann Little & Co. Equity Partnership-V, L.P | Baptist Hospitals and Health Systems, Inc. | Medical Environments, Inc.
20003272 | Jack Henry & Associates, Inc. | Symitar Systems, Inc. | Symitar Systems, Inc.
20003273 | Cox Enterprises, Inc. | Peter Steinlauf | Edmunds Holding Company
20003277 | Oryx Capital International, Ltd. | J. Herbert Ogden, Jr. | Mold-Ex, LLC
20003278 | VIAG AG | Sapa AB | Eurofoil Belgium S.A., Eurofoil Luxembourg S.A. Vetuna AB
20003279 | The SKM Equity Fund II, L.P. | Michael A. and Nancy J. Friend | UPT Plastics, Inc., and Owens Packaging, Inc.
20003280 | Sonepar, S.A. | David Rosenstein | Brook Electrical Supply Co.
20003281 | Banco Santander Central Hispano, S.A. | Patagon.com International, Inc. | Patagon.com International, Inc.
20003286 | Summit Ventures V, L.P. | Antonio Salerno | Conxion Corporation
20003287 | ReliaStar Financial Corp. | Lexington Global Asset Managers, Inc. | Lexington Global Asset Managers, Inc.
20003290 | Cerner Corporation | Citation Computer Systems, Inc. | Citation Computer Systems, Inc.
20003304 | Omnicom Group Inc. | Jason Moskowitz | U.S. Marketing Promotions Agency, Inc.
20003305 | Omnicom Group Inc. | Michael Napoliello | U.S. Marketing Promotions Agency, Inc.
20003330 | Enron Corp. | Enron Corp. | Enron Energy Services, LLC
TRANSACTIONS GRANTED EARLY TERMINATION—06/01/2000
20003174 | TBC Corporation, a Delaware corporation | TKI Holdings, Inc., a Delaware corporation | TKI Holdings, Inc., a Delaware corporation
20003294 | SCOR U.S. Corporation | Partner Re Ltd. | Partner Re Life Insurance Company
20003296 | Applied Digital Solutions, Inc. | Destron Fearing Corporation | Destron Fearing Corporation
20003297 | The Titan Corporation | Fredrick S. Yeatts | Sencom Corp.
20003298 | Pearson plc | The Family Education Network, Inc. | The FamilyEducation Network, Inc.
20003313 | Stichting Pensioenfonds voor de Gezondheid Geestelijke | Equity Office Properties Trust | Equity Office Properties Trust
TRANSACTIONS GRANTED EARLY TERMINATION—06/02/2000
20003176 | O. Gene Bicknell | Tricon Global Restaurants, Inc. | Tricon Global Restaurants, Inc.
20003363 | Oger Pensat Holdings, Ltd. | Telscape International, Inc. | Telscape International, Inc.

FOR FURTHER INFORMATION CONTACT: Sandra M. Peay or Parcellena P. Fielding, Contact Representatives, Federal Trade Commission, Premerger Notification Office, Bureau of Competition, Room 303, Washington, D.C. 20580, (202) 326-3100.

By Direction of the Commission.
Donald S. Clark,
Secretary.

[FR Doc. 00-17225 Filed 7-6-00; 8:45 am]

BILLING CODE 6750-01-M